DEPARTMENT OF AGRICULTURE

Grain Inspection, Packers and Stockyards Administration

Amendment to Certification of Louisiana's Central Filing System

AGENCY: Grain Inspection, Packers and Stockyards Administration, USDA.

ACTION: Notice.

SUMMARY: In response to a request from Louisiana's Secretary of State we are approving the amendments to the signature and property description requirements of the certified central filing system for Louisiana.

DATES: Effective Date: February 13, 2006.

SUPPLEMENTARY INFORMATION: The Grain Inspection, Packers and Stockyards Administration (GIPSA) administers the Clear Title program for the Secretary of Agriculture. The Clear Title program is authorized by Section 1324 of the Food Security Act of 1985 and requires that States implementing central filing system for notification of liens on farm products must have such systems certified by the Secretary of Agriculture.

A listing of the states with certified central filing systems is available through the Internet on the GIPSA Web site (http://www.usda.gov/gipsa/). Farm products covered by a State's central filing system are also identified through the GIPSA web site. The Louisiana central filing system covers all farm products.

We originally certified the central filing system for Louisiana on December 30, 1986. On July 22, 2004, Janice Newton, Commercial Division Manager, Office of Secretary of State, Louisiana, requested the certification be amended to make changes related to electronic filing, effective filing statement content, and central filing system procedure necessitated or made possible by amendments to Section 1324 of the Food Security Act, which, among other things, permit effective financing statements to be signed, authorized, or otherwise authenticated. Specifically, the following changes were requested:

(1) The creditor, or his agent, file effective financing statements without signature by the debtor and secured party;

(2) Format and provide the names of individual debtor as required on the UCC-1F filing form, and in the case of an organization, use full legal names, and enter names exactly as provided by the filer;

(3) Use the farm number established by the Farm Service Agency of the U.S. Department of Agriculture as a reasonable description of the property as an alternative to requiring the description include the farm name or general location;

(4) Amend effective financing statements in writing, signed, authorized, or otherwise authenticated by the debtor and filed within 3 months of the amendment to reflect material changes;

(5) Effective financing statements expire on either the expiration of the effective period of the statement or the filing of a notice authorized or otherwise authenticated by the creditor that the statement has expired, whichever occurs first; and

(6) No longer require the signature of the debtor or of the secured party for filing any effective financing statement, including continuations, assignments, partial releases, terminations, or other similar statement filed.

This notice announces our approval of the amended certification for Louisiana's central filing system in accordance with the request to amend signature and property description requirements.

Effective Date

This notice is effective upon signature for good cause because it increases the flexibility in which effective filing statements may be authorized and authenticated, in addition, it allows a simplified manner in which farm property may be described. Approving changes to the certification of approved central filing systems does not require public notice. Therefore, this notice may be made effective in less than 30 days after publication in the Federal Register without prior notice or other public procedure.

Authority: 7 U.S.C. 1631, 7 CFR 2.22(a)(3)(v) and 2.81(a)(5), and 9 CFR 205.101(e).

James E. Link,
Administrator, Grain Inspection, Packers and Stockyards Administration.

[FR Doc. E6-2306 Filed 2-16-06; 8:45 am]

BILLING CODE 3410-EN-P